INTERNATIONAL TRADE COMMISSION

Privacy Act of 1974; System of Records

AGENCY: United States International Trade Commission (USITC).

ACTION: Notice of a new system of records.

SUMMARY: In accordance with the Privacy Act of 1974, the United States International Trade Commission (USITC or Commission) proposes to add a new system of records to collect information related to employee-submitted requests for reasonable accommodations, including for reasons relating to a disability, and employee-submitted requests for religious accommodations due to sincerely held religious beliefs, practices, or observances. Records contained in this system are collected to: (1) Allow the USITC to collect and maintain records on prospective, current, and former employees with disabilities who request or receive a reasonable accommodation by the USITC; (2) allow the USITC to collect and maintain records on prospective, current, and former employees with sincerely held religious beliefs, practices, or observances who request or receive a religious accommodation by USITC; (3) track and report the processing of requests for such accommodations to comply with applicable laws and regulations; and (4) preserve and maintain the confidentiality of medical and religious information submitted by or on behalf of applicants or employees requesting such an accommodation.

DATES: These systems will become effective upon publication in today's Federal Register, with the exception of the routine uses that will be effective on January 6, 2022. The USITC invites written comments on the routine uses and other aspects of this system of records. Submit any comments by January 6, 2022.

ADDRESSES: You may submit comments via the Electronic Document Filing System (EDIS) at https://edis.usitc.gov. All submissions must include the investigation number (MISC-043), along with a physical or electronic signature on the cover letter. Any information that you provide, including personal information, will be publicly available for viewing.

FOR FURTHER INFORMATION CONTACT: Michael O'Rourke, Privacy Officer, (202) 708-1390, United States International Trade Commission, 500 E St. SW, Washington, DC 20436, at privacy@usitc.gov. Hearing-impaired persons can obtain information on this matter by contacting the Commission's TDD terminal on 202-205-1810.

SUPPLEMENTARY INFORMATION: Under the Privacy Act of 1974 (“Privacy Act”), 5 U.S.C. 552a, the USITC proposes to add one new system of records: ITC-3 (Reasonable and Religious Accommodation Records). The USITC is publishing this system of records notice to provide information regarding the collection, maintenance, use, and disclosure of records relating to employee-submitted requests for reasonable or religious accommodations, which may include medical or religious information. The USITC invites interested persons to submit comments on the actions proposed in this notice.

As required by subsection 552a(r) of the Privacy Act (5 U.S.C. 552a(r)), the USITC has provided a report to the Office of Management and Budget, the Chair of the Committee on Oversight and Government Reform of the House of Representatives, and the Chair of the Committee on Homeland Security and Governmental Affairs of the Senate.

SYSTEM NAME AND NUMBER:

ITC-3, Reasonable and Religious Accommodation Records.

SECURITY CLASSIFICATION:

Non-classified.

SYSTEM LOCATION:

The Office of Human Resources, U.S. International Trade Commission, 500 E Street SW, Washington, DC 20436 maintains the records. Records may also be maintained at an additional location for Business Continuity Purposes. Duplicate systems may exist, in part, for administrative purposes in the office to which the employee is assigned.

SYSTEM MANAGER(S):

Director, Office of Human Resources, U.S. International Trade Commission, 500 E Street SW, Washington, DC 20436.

AUTHORITY FOR MAINTENANCE OF THE SYSTEM:

Authority for maintenance of the system includes the following with any revisions or amendments: 19 U.S.C.1331(a)(1)(A)(iii); 29 U.S.C. 791 et seq.; 42 U.S.C. 12101 et seq.; 42 U.S.C. 2000e et seq.; 29 CFR part 1614; Executive Order 13164 (July 28, 2000); Executive Order 13548 (July 10, 2010); and Executive Order 14043 (Sept. 9, 2021).

PURPOSE(S) OF THE SYSTEM:

The purpose of this system is to: (1) Allow the USITC to collect and maintain records on prospective, current, and former employees with disabilities who request or receive a reasonable accommodation by the USITC; (2) allow the USITC to collect and maintain records on prospective, current, and former employees with sincerely held religious beliefs, practices, or observances who request or receive a religious accommodation by USITC; (3) track and report the processing of requests for accommodations to comply with applicable laws and regulations; and (4) preserve and maintain the confidentiality of medical and religious information submitted by or on behalf of applicants or employees requesting an accommodation.

CATEGORIES OF INDIVIDUALS COVERED BY THE SYSTEM:

Prospective, current, and former USITC employees who request or receive an accommodation for a disability or a sincerely held religious belief, practice, or observance; authorized individuals or representatives (e.g., family members or attorneys) who file a request for an accommodation on behalf of a prospective, current, or former employee.

CATEGORIES OF RECORDS IN THE SYSTEM:

The categories of records in this system include, but are not limited to: Name and employment information of employees requesting an accommodation; assigned case numbers; requestor's name and contact information (if different than the employee who requests an accommodation); the date that the request was initiated; information concerning the nature of the disability and the need for accommodation, including appropriate medical documentation; information concerning the nature of the sincerely held religious belief, practice, or observance and the need for accommodation, including any appropriate documentation; details of the accommodation request, such as: The type of accommodation requested, how the requested accommodation would assist in job performance, the sources of technical assistance consulted in trying to identify alternative reasonable accommodation, any additional information provided by the requestor related to the processing of the request, and whether the request was approved or denied, and whether the accommodation was approved for a trial period; and notification(s) to the employee and the employee's supervisor(s) regarding the accommodation.

RECORD SOURCE CATEGORIES:

Subject individuals; subject individuals' supervisors and other agency officials with a need to know; related correspondence from organizations or persons.

ROUTINE USES OF RECORDS MAINTAINED IN THE SYSTEM, INCLUDING CATEGORIES OF USERS AND PURPOSES OF SUCH USES:

The USITC may disclose information about covered individuals without consent as permitted by the Privacy Act, 5 U.S.C. 552a(b), and by USITC General Routine Uses A-C and E-N. See 82 FR 45046, 45066 (Sept. 27, 2017) for Appendix A: General Routine Uses Applicable to More Than One System of Records. The USITC may disclose information in this system to any Federal, State, or local agency, organization or individual to the extent necessary to obtain information or witness cooperation if there is reason to believe the recipient possesses information related to the matter. The USITC may disclose information to a Federal, State, or local agency to the extent necessary to comply with laws governing reporting of communicable diseases. The USITC may produce anonymized summary descriptive statistics and analytical studies, as a data source for management information, in support of the function for which the records are collected and maintained, or for related personnel management functions or manpower studies.

POLICIES AND PRACTICES FOR STORAGE OF RECORDS:

The USITC will maintain records in paper and electronic form, including on computer databases, all of which are stored in a secure location.

POLICIES AND PRACTICES FOR RETRIEVAL OF RECORDS:

The USITC will retrieve records by the following: Prospective, current, or former employee name or assigned case number.

POLICIES AND PRACTICES FOR RETENTION AND DISPOSAL OF RECORDS:

Reasonable accommodation records are maintained in accordance the National Archives and Records Administration's (NARA's) General Records Retention Schedule 2.3, Employee Relations Records, and specifically, item 20: Reasonable Accommodation Case Files. The USITC will dispose of records that have met required retention periods in accordance with NARA guidelines and USITC policy and procedures. The USITC will shred paper records and remove electronic records in accordance with National Institute of Standards and Technology (NIST) guidelines for media sanitization.

ADMINISTRATIVE, TECHNICAL, AND PHYSICAL SAFEGUARDS:

The USITC has adopted appropriate administrative, technical, and physical controls in accordance with the USITC's security program to protect the security, confidentiality, availability, and integrity of the information, and to ensure that records are not disclosed to or accessed by unauthorized individuals. Access to this system of records is limited to persons who have a need to know the information for the performance of their official duties.

Paper records are stored in locked file cabinets in areas of restricted access that are locked throughout the workday and after office hours. Only authorized individuals can access the cabinets and the rooms in which they are stored. Only authorized individuals with a need to know access the electronic records in this system through the use of safeguards such as multifactor authentication.

RECORD ACCESS PROCEDURES:

Individuals wishing to request access to their records should contact the Privacy Act Officer, Office of the Secretary, U.S. International Trade Commission, 500 E Street SW, Washington, DC 20436. Individuals must furnish the following information for their records to be located and identified:

1. Full name(s), current address, date and place of birth;

2. Dates of employment;

3. Identification of the relevant system of records, if possible;

4. Description of the record sought; and

5. Signature.

Individuals requesting access must comply with the Commission's Privacy Act regulations on verification of identity and access to such records, available at 19 CFR 201.22-201.32.

CONTESTING RECORD PROCEDURES:

See Record Access Procedures above.

NOTIFICATION PROCEDURES:

See Record Access Procedures above.

EXEMPTIONS PROMULGATED FOR THE SYSTEM:

None.

HISTORY:

None.

By order of the Commission.
Issued: December 1, 2021.
Lisa Barton,
Secretary to the Commission.

[FR Doc. 2021-26430 Filed 12-6-21; 8:45 am]

BILLING CODE P